DEPARTMENT OF AGRICULTURE

Farm Service Agency

[Docket ID: FSA-2021-0017]

Information Collection Request; Request for Special Priorities Assistance

AGENCY: Farm Service Agency, USDA.

ACTION: Notice; request for comments.

SUMMARY: In accordance with the Paperwork Reduction Act of 1995, the Farm Service Agency (FSA) is requesting comments from all interested individuals and organizations on an extension of a currently approved information collection request associated with the Request for Special Priorities Assistance. The information collection established by the Agriculture Priorities and Allocations System (APAS) regulation is necessary for the program applicant (person) to request prioritizing of a contract above all other contracts. The purpose of the priority rating is to obtain item(s) in support of national defense programs that they are not able to obtain in time through normal market channels.

DATES: We will consider comments that we receive by March 11, 2022.

ADDRESSES: We invite you to submit comments on the notice. You may submit comments by any of the following methods:

• Federal eRulemaking Portal: Go to: www.regulations.gov and search for Docket ID FSA-2021-0017. Follow the online instructions for submitting comments.

• Mail, Hand-Delivery, or Courier: Scott Linsky, USDA/FPAC/FSA, 1400 Independence Ave. SW, Room 3086-S, Washington, DC 20250.

You may also send comments to the Desk Officer for Agriculture, Office of Information and Regulatory Affairs, Office of Management and Budget, Washington, DC 20503. Copies of the information collection may be requested by contacting Scott Linsky.

FOR FURTHER INFORMATION CONTACT: For specific questions related to collection activities, contact Scott Linsky, telephone: (202) 720-7795; or by email: Scott.Linsky@usda.gov. Persons with disabilities who require alternative means for communication should contact the USDA Target Center at (202) 720-2600 or (844) 433-2774 (toll-free nationwide).

SUPPLEMENTARY INFORMATION:

Title: Request for Special Priorities Assistance.

OMB Control Number: 0560-0280.

Expiration Date of Approval: April 30, 2022.

Type of Request: Extension of a currently approved information collection.

Abstract: APAS would efficiently place priority ratings on contracts or orders of agriculture commodities up through the wholesale levels, agriculture production equipment, allocate resources, and handle food claims within its authority as specified in the Defense Production Act (DPA) of 1950, as amended, when necessary to promote national defense. It was determined that food is a scarce and critical commodity essential to the national defense (including civil emergency preparedness and response). Unless its production, processing, storage, and wholesale distribution are regulated during times of emergencies, the national defense requirement for food and food production may not be met without creating hardship in the civilian marketplace. Applicants (Government agencies or private individuals with a role in emergency preparedness, response, and recovery functions) request authorization from USDA to place a rating on a contract for items to support national defense activities. USDA Form AD-2102 can be found by the public at https://forms.sc.egov.usda.gov/eForms. Applicants must supply, at time of request, their name, location, contact information, items for which the applicant is requesting assistance on, quantity, and delivery date. Applicants can submit the request by mail or fax. There are no changes to the burden hours since the last OMB approval.

For the following estimated total annual burden on respondents, the formula used to calculate the total burden hour is the estimated average time per response multiplied by the estimated total annual responses.

Estimate of Respondent Burden: Public reporting burden for the information collection is estimated to average 30 minutes (0.50) per response.

Respondents: Individuals, businesses, and agencies with responsibilities for emergency preparedness and response.

Estimated Annual Number of Respondents: 50.

Estimated Number of Reponses per Respondent: 1.

Estimated Total Annual Responses: 50.

Estimated Average Time per Response: 0.5 hours.

Estimated Total Annual Burden on Respondents: 25 hours.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Zach Ducheneaux,
Administrator, Farm Service Agency.

[FR Doc. 2022-00155 Filed 1-7-22; 8:45 am]

BILLING CODE 3410-05-P